DEPARTMENT OF HOMELAND SECURITY

Directorate of Science and Technology; Notice of Meeting of Homeland Security Science and Technology Advisory Committee

AGENCY: Office of the Under Secretary for Science and Technology; Department of Homeland Security.

ACTION: Notice.

SUMMARY: The Homeland Security Science and Technology Advisory Committee (HSSTAC) will meet in a partially closed session in New York, NY on May 20 & 21, 2004.

DATES: The HSSTAC will meet in closed session on May 20, 2004, from 7:30 a.m. to 5 p.m. and on May 21, 2004 from 8:15 a.m. to 12 p.m. HSSTAC will meet in open session on May 21, 2004 from 12:45 p.m. to 4:30 p.m.

FOR FURTHER INFORMATION CONTACT: Craig Wilson, Homeland Security Science and Technology Advisory Committee, Department of Homeland Security, Directorate of Science and Technology, Washington, DC 20528; telephone (202) 205-5041; e-mail HSSTAC@dhs.gov.

SUPPLEMENTARY INFORMATION: Notice of this meeting is given under the Federal Advisory Committee Act (FACA), Public Law 92-463, as amended (5 U.S.C. App. 2). The HSSTAC will meet for purposes of: (1) Receiving briefings and examining initiatives and activities sponsored by the Directorate of Science and Technology; (2) receiving briefings on specific portfolios and activities from among the complement of the Directorate's portfolios and activities; (3) receiving a briefing on challenges for the Department; and (4) receiving status reports from HSSTAC subcommittees and discussing future committee actions. This meeting will be partially closed in compliance with Section 10(d) of FACA and Subsection (c) of 5 U.S.C. 552b, the Government in the Sunshine Act. The open portions of the meeting for purposes of (3) and (4) above will be held in the Environmental Measurement Laboratory from 12:45 p.m. to 4:30 p.m. on May 21, 2004. The Environmental Measurement Laboratory is located at 201 Varick Street, New York, NY 10014. The closed portions of the meeting, for purposes of (1) and (2) above will be held at various locations from 7:30 a.m. to 5 p.m. on May 20, 2004, and from 8:15 a.m. to 12 p.m. on May 21, 2004.

Public Attendance: Due to meeting space capacity restrictions, the maximum amount of public attendees will be twenty-five. Members of the public will be registered to attend the public session on a first-come, first-served basis per the procedures that follow. Any member of the public who wishes to attend the public session must provide his or her name, affiliation, social security number, and date of birth no later than 5 p.m. e.s.t., Monday, May 10, 2004. Please provide the required information to Craig Wilson via e-mail at HSSTAC@dhs.gov, or via phone at (202) 205-5041. Persons with disabilities who require special assistance should indicate so in their admittance request. Photo identification will be required for entry into the public session, and everyone in attendance must be present and seated by 12:30 p.m. on May 21, 2004.

Basis for Closure: In accordance with section 10(d) of the Federal Advisory Committee Act, Public Law 92-463, as amended (5 U.S.C. App. 2), the Under Secretary for Science and Technology has issued a determination that portions of this HSSTAC meeting will concern matters sensitive to homeland security within the meaning of 5 U.S.C. 552b(c)(1)(a), (c)(7) and (c)(9)(B) and that, accordingly, these portions of the meeting will be closed to the public.

Public Comments: Members of the public who wish to file a written statement with the HSSTAC may do so by mail to Craig Wilson at the following address: Homeland Security Science and Technology Advisory Committee, Department of Homeland Security, Directorate of Science and Technology, Washington, DC 20528. Comments may also be sent via e-mail to HSSTAC@dhs.gov or via fax at (202) 772-9916.

Dated: April 29, 2004.
Charles E. McQueary,
Under Secretary for Science and Technology, Department of Homeland Security.

[FR Doc. 04-10226 Filed 5-3-04; 8:45 am]

BILLING CODE 4410-10-M